DEPARTMENT OF COMMERCE

International Trade Administration

[C-570-938]

Citric Acid and Certain Citrate Salts From the People's Republic of China: Final Results of Countervailing Duty Administrative Review; 2010

AGENCY: Import Administration, International Trade Administration, Department of Commerce.

SUMMARY: The Department of Commerce (the Department) has completed its administrative review of the countervailing duty (CVD) order on citric acid and certain citrate salts from the People's Republic of China for the period January 1, 2010, through December 31, 2010. On June 5, 2012, we published the preliminary results of this review.¹

¹ See Citric Acid and Certain Citrate Salts from the People's Republic of China: Preliminary Results of Countervailing Duty Administrative Review, 77 FR 33167 (June 5, 2012) (Preliminary Results).

We provided interested parties with an opportunity to comment on the Preliminary Results. Our analysis of the comments submitted has not resulted in a change to the net subsidy rate for RZBC Co., Ltd., RZBC Juxian Co., Ltd., RZBC Imp. & Exp. Co., Ltd., and RZBC Group Shareholding Co., Ltd. (collectively, the RZBC Companies or RZBC). The final net subsidy rate for the RZBC Companies is listed below in the section entitled “Final Results of Review.”

DATES: Effective Date: December 5, 2012.

FOR FURTHER INFORMATION CONTACT: Kristen Johnson or Patricia Tran, AD/CVD Operations, Office 3, Import Administration, U.S. Department of Commerce, 14th Street and Constitution Avenue NW., Washington, DC 20230; telephone (202) 482-4793 and (202) 482-1503, respectively.

SUPPLEMENTARY INFORMATION:

Background

Following the Preliminary Results, we received a case brief from the Government of the People's Republic of China (GOC) and the RZBC Companies on July 12, 2012, and a rebuttal brief from Petitioners ² on July 23, 2012. We did not hold a hearing in this review, as one was not requested.

² Petitioners are Archer Daniels Midland Company, Cargill, Incorporated, and Tate & Lyle Ingredients Americas LLC.

Scope of the Order

The merchandise subject to the order is citric acid and certain citrate salts. The product is currently classified under the Harmonized Tariff Schedule of the United States (HTSUS) item numbers 2918.14.0000, 2918.15.1000, 2918.15.5000, 3824.90.9290, and 3824.90.9290. Although the HTSUS numbers are provided for convenience and customs purposes, the written product description, available in Citric Acid and Certain Citrate Salts from the People's Republic of China: Notice of Countervailing Duty Order, 74 FR 25705 (May 29, 2009), remains dispositive.

Analysis of Comments Received

All issues raised in the case briefs filed by the GOC and the RZBC Companies and the rebuttal brief filed by Petitioners are addressed in the Memorandum from Christian Marsh, Deputy Assistant Secretary for Antidumping and Countervailing Duty Operations, to Ronald K. Lorentzen, Acting Assistant Secretary for Import Administration, entitled “Issues and Decision Memorandum for the Final Results of the Countervailing Duty Administrative Review of Citric Acid and Certain Citrate Salts from the People's Republic of China,” signed concurrently with this notice (Issues and Decision Memorandum), which is hereby adopted by this notice. A list of the issues raised is attached to this notice as Appendix I. The Issues and Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Issues and Decision Memorandum can be accessed directly on the internet at http://www.trade.gov/ia/. The signed Issues and Decision Memorandum and the electronic versions of the Issues and Decision Memorandum are identical in content.

Final Results of Review

In accordance with 19 CFR 351.221(b)(5), we calculated a subsidy rate for the mandatory respondent, the RZBC Companies.

Producer/Exporter | Net subsidy rate
RZBC Co., Ltd., RZBC Juxian Co., Ltd., RZBC Imp. & Exp. Co., Ltd., and RZBC Group Shareholding Co., Ltd | 5.27%

Assessment Rates

The Department intends to issue appropriate assessment instructions directly to U.S. Customs and Border Protection (CBP) 15 days after the date of publication of these final results, to liquidate shipments of subject merchandise by the RZBC Companies entered, or withdrawn from warehouse, for consumption on or after January 1, 2010, through December 31, 2010.

Cash Deposit Instructions

The Department also intends to instruct CBP to collect cash deposits of estimated countervailing duties in the amounts shown above on shipments of subject merchandise by the RZBC Companies entered, or withdrawn from warehouse, for consumption on or after the date of publication of the final results of this review. For all non-reviewed companies, we will instruct CBP to continue to collect cash deposits at the most recent company-specific or country-wide rate applicable to the company. Accordingly, the cash deposit rates that will be applied to companies covered by this order, but not examined in this review, are those established in the most recently completed segment of the proceeding for each company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Tariff Act of 1930, as amended.

Dated: November 29, 2012.
Ronald K. Lorentzen,
Acting Assistant Secretary for Import Administration.

Appendix—Issues in Decision Memorandum

Comment 1: Authority to Apply CVD to the PRC

Comment 2: Double-Counting

Comment 3: Countervailability of Shandong Province Policy Loans

Comment 4: Specificity Findings for Sulfuric Acid and Steam Coal

Comment 5: Use of Tier One Benchmark for Sulfuric Acid and Steam Coal

Comment 6: Whether Certain Input Suppliers Are Government Authorities

Comment 7: Rejection of RZBC's Submission

Comment 8: Export Prices for Sulfuric Acid from India and Thailand

[FR Doc. 2012-29429 Filed 12-4-12; 8:45 am]

BILLING CODE 3510-DS-P